DEPARTMENT OF TRANSPORTATION

Federal Transit Administration

[FTA Docket No. FTA-2012-0025]

Agency Information Collection Activity Under OMB Review

AGENCY: Federal Transit Administration, DOT.

ACTION: Notice of request for comments.

SUMMARY: The Federal Transit Administration invites public comment about our intention to request the Office of Management and Budget's (OMB) approval of the following new information collection:

Transit Safety Survey (OMB Number: 2132-New).

The Federal Register Notice with a 60-day comment period soliciting comments was published on February 27, 2012.

The information obtained from the survey will provide FTA with the opportunity to establish a proactive safety research agenda that will improve the safety of transit systems across the country.

DATES: Comments must be submitted before June 11, 2012. A comment to OMB is most effective if OMB receives it within 30 days of publication.

FOR FURTHER INFORMATION CONTACT: LaStar Matthews, Office of Administration, Office of Management Planning, (202) 366-2295.

SUPPLEMENTARY INFORMATION:

Title: Transit Safety Survey.

Abstract: The survey covered in this request will provide FTA with a means to gather data directly from its stakeholders. The information obtained from the survey will be used to improve transit safety research with long-term goals of improving public transit safety and reducing risk for transit properties, transit passengers, and the public in general. The survey will be limited to data collections that solicit voluntary opinions to enable us to effectively address transit safety issue areas, identify safety trends, and structure a responsive and proactive research agenda for FTA.

Estimated Total Annual Burden: 266 hours.

ADDRESSES: All written comments must refer to the docket number that appears at the top of this document and be submitted to the Office of Information and Regulatory Affairs, Office of Management and Budget, 725—17th Street NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued: May 2, 2012.
Ann M. Linnertz,
Associate Administrator for Administration.

[FR Doc. 2012-10942 Filed 5-10-12; 8:45 am]

BILLING CODE P